DEPARTMENT OF THE INTERIOR

Bureau of Land Management

[LLES956000-L14100000-BX0000]

Eastern States: Filing of Plat of Survey

AGENCY: Bureau of Land Management, Interior.

ACTION: Notice.

SUMMARY: The Bureau of Land Management (BLM) will file the plat of survey of the lands described below in the BLM-Eastern States office in Springfield, Virginia, 30 calendar days from the date of publication in the Federal Register.

FOR FURTHER INFORMATION CONTACT: Bureau of Land Management-Eastern States, 7450 Boston Boulevard, Springfield, Virginia 22153. Attn: Cadastral Survey. Persons who use a telecommunications device for the deaf (TDD) may call the Federal Information Relay Service (FIRS) at 1-800-877-8339 during normal business hours. The FIRS is available 24 hours a day, 7 days a week, to leave a message or question. You will receive a reply during normal business hours.

SUPPLEMENTARY INFORMATION: The survey was requested by the Eastern States Jackson Field Office of the Bureau of Land Management.

The lands surveyed are:

Tallahassee Meridian, Florida

T. 16 and 17 S., R. 34 E.

The supplemental plat identifies an unlotted parcel of land in the NW ¼ of Section 26 of Township 6 South, Range 15 East, of the Tallahassee Meridian, in the State of Florida, as shown on the original plat dated February 1827, and was accepted March 18, 2009. This supplemental plat of sections 32 and 33, Township 16 South, Range 34 East and section 5, Township 17 South, Range 34 East, Tallahassee Meridian, Florida, is made for the purpose of establishing descriptions of the subdivisions thereof, with areas by which the public lands may be disposed.

We will place a copy of the plat we described in the open files. It will be available to the public as a matter of information.

If BLM receives a protest against the survey, as shown on the plat, prior to the date of the official filing, we will stay the filing pending our consideration of the protest.

We will not officially file the plat until the day after we have accepted or dismissed all protests and they have become final, including decisions on appeals.

Dated: March 8, 2013.
Dominica Van Koten,
Chief Cadastral Surveyor.

[FR Doc. 2013-05927 Filed 3-13-13; 8:45 am]

BILLING CODE 4310-GJ-P